DEPARTMENT OF HOMELAND SECURITY

Coast Guard

[Docket No. USCG-2008-1211]

Lower Mississippi River Waterway Safety Advisory Committee

AGENCY: Coast Guard, DHS.

ACTION: Notice of meeting.

SUMMARY: The Lower Mississippi River Waterway Safety Advisory Committee will meet in New Orleans, LA to discuss various issues relating to navigational safety on the Lower Mississippi River and related waterways. This meeting will be open to the public.

DATES: The Committee will meet on Thursday, February 5th, 2009 from 9 a.m. to 12 p.m. This meeting may close early if all business is finished. Written material and requests to make oral presentations should reach the Coast Guard on or before January 23, 2009. Requests to have a copy of your material distributed to each member of the committee should reach the Coast Guard on or before January 23, 2009.

ADDRESSES: The Committee will meet at the New Orleans Yacht Club, 403 North Roadway, West End, New Orleans, LA 70124. Send written material and requests to make oral presentations to Sector Commander, Designated Federal Officer (DFO) of Lower Mississippi River Waterway Safety Advisory Committee, USCG Sector New Orleans, ATTN: Waterways Management, 1615 Poydras St., New Orleans, LA 70112.

FOR FURTHER INFORMATION CONTACT: CWO3 David Chapman, Assistant to DFO of Lower Mississippi River Waterway Safety Advisory Committee, telephone 504-565-5103.

SUPPLEMENTARY INFORMATION: Notice of this meeting is given under the Federal Advisory Committee Act, 5 U.S.C. App. (Pub. L. 92-463).

Agenda of Meeting

The agenda for the February 5, 2009 Committee meeting is as follows:

(1) Introduction of committee members.

(2) Opening Remarks. Describe the second item on the agenda.

(3) Approval of the September 25, 2008 minutes.

(4) Old Business.

(a) Captain of the Port status report.

(b) VTS update report.

(c) Subcommittee/Working Groups update reports.

(5) New Business.

(6) Adjournment.

Procedural

This meeting is open to the public. Please note that the meeting may close early if all business is finished. At the Chair's discretion, members of the public may make oral presentations during the meeting. If you would like to make an oral presentation at a meeting, please notify the DFO no later than January 23, 2009. Written material for distribution at a meeting should reach the Coast Guard no later than January 23, 2009. If you would like a copy of your material distributed to each member of the committee in advance of a meeting, please submit 25 copies to the DFO no later than January 23, 2009.

Information on Services for Individuals With Disabilities

For information on facilities or services for individuals with disabilities or to request special assistance at the meeting, contact the DFO as soon as possible.

Dated: December 29, 2008.
Joel R. Whitehead,
Rear Admiral, U.S. Coast Guard Commander, Eight Coast Guard District.

[FR Doc. E9-1130 Filed 1-16-09; 8:45 am]

BILLING CODE 4910-15-P